DEPARTMENT OF AGRICULTURE

Animal and Plant Health Inspection Service

[Docket No. APHIS-2010-0054]

Notice of Revision and Request for Extension of Approval of an Information Collection; Animal Disease Traceability; Tribal Nations Using Systems for Location Identification

AGENCY: Animal and Plant Health Inspection Service, USDA.

ACTION: Revision and extension of approval of an information collection; comment request.

SUMMARY: In accordance with the Paperwork Reduction Act of 1995, this notice announces the Animal and Plant Health Inspection Service’s intention to revise an information collection for Tribal Nations using systems for location identification for the animal disease traceability framework and to request extension of approval of the information collection.

DATES: We will consider all comments that we receive on or before August 30, 2010.

ADDRESSES: You may submit comments by either of the following methods:

• Federal eRulemaking Portal: Go to (http://www.regulations.gov/fdmspublic/component/main?main=DocketDetail&d=APHIS-2010-0054) to submit or view comments and to view supporting and related materials available electronically.

• Postal Mail/Commercial Delivery: Please send one copy of your comment to Docket No. APHIS-2010-0054, Regulatory Analysis and Development, PPD, APHIS, Station 3A-03.8, 4700 River Road Unit 118, Riverdale, MD 20737-1238. Please state that your comment refers to Docket No. APHIS-2010-0054.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on Tribal Nations using location identification systems for the animal disease traceability framework, contact Mr. Vince Chapman, Program Analyst, Traceability Team, VS, APHIS, 4700 River Road Unit 200, Riverdale, MD 20737; (301) 734-0739. For copies of more detailed information on the information collection, contact Mrs. Celeste Sickles, APHIS’ Information Collection Coordinator, at (301) 851-2908.

SUPPLEMENTARY INFORMATION: Title: Animal Disease Traceability; Tribal Nations Using Systems for Location Identification.

OMB Number: 0579-0327.

Type of Request: Revision and extension of approval of an information collection.

Abstract: As part of its ongoing efforts to safeguard animal health, the U.S. Department of Agriculture (USDA) is developing a coordinated framework for animal disease traceability in the United States. Traceability will help document the movement history of an animal throughout its life, including during an emergency response or for ongoing animal disease programs. Under this new direction, States and Tribal Nations will help establish the ability to trace animals moving interstate back to their State of origin.

The Animal and Plant Health Inspection Service, USDA, has made systems for animal disease traceability available to Tribal Nations for managing the issuance of unique location identification numbers, including the Standardized Premises Location System and a Tribal Premises Location System. Participating Tribal Nations can designate the premises location system they prefer to use by completing and submitting Veterinary Services Form 1-63, Tribal Location Identification System Implementation Request, to APHIS for access to their system of choice.

We are asking the Office of Management and Budget (OMB) to approve our use of this information collection activity for an additional 3 years.

We are revising the title of the current information collection approved under OMB number 0579-0327 from “National Animal Identification System; Tribal Participants in Premises Registration” to “Animal Disease Traceability; Tribal Nations Using Systems for Location Identification.”

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.62 hours per response.

Respondents: Tribal organizations that participate or will participate in location identification for animal disease traceability.

Estimated annual number of respondents: 25.

Estimated annual number of responses per respondent: 2.

Estimated annual number of responses: 50.

Estimated total annual burden on respondents: 31 hours. (Due to averaging, the total annual burden hours may not equal the product of the annual number of responses multiplied by the reporting burden per response.)

All responses to this notice will be summarized and included in the request for OMB approval. All comments will also become a matter of public record.

Done in Washington, DC, this 23rd day of June 2010.

Kevin Shea
Acting Administrator, Animal and Plant Health Inspection Service.

[FR Doc. 2010-15731 Filed 6-28ndash;10; 7:16 am]

BILLING CODE 3410-34-S